DEPARTMENT OF COMMERCE

Census Bureau

Proposed Information Collection; Comment Request; School District Review Program

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, submit written comments, on or before April 2, 2018.

ADDRESSES: Direct all written comments to Jennifer Jessup, Departmental Paperwork Clearance Officer, Department of Commerce, Room 6616, 14th and Constitution Avenue NW, Washington, DC 20230 (or through the internet at PRAcomments@doc.gov). You may also submit comments, identified by Docket Number USBC-2017-0007 to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

FOR FURTHER INFORMATION CONTACT: Direct requests for additional information or copies of the information collection instrument(s) and instructions to Robin A. Pennington, U.S. Census Bureau, 4600 Silver Hill Road, Washington, DC 20233 (or through the internet at robin.a.pennington@census.gov).

SUPPLEMENTARY INFORMATION:

I. Abstract

The School District Review Program (SDRP) is one of many voluntary geographic partnership programs at the U.S. Census Bureau. The SDRP collects school district information and boundaries to update the Census Bureau's geographic database of addresses, streets, and boundaries. The Census Bureau uses its geographic database to tie demographic data from surveys and the decennial census to locations and areas, such as cities, school districts, and counties. To tabulate statistics by localities, the Census Bureau must have accurate addresses and boundaries.

The boundaries collected in SDRP and other geographic programs will create census blocks, which are the building blocks for all Census Bureau geographic boundaries. Census blocks are the smallest unit of census geography used for tabulating data. Blocks nest within every other type of geographic area, including school districts. By combining census blocks, the Census Bureau is able to accurately report the exact number of people in each geographic area, including school districts, according to that area's boundaries. While the geographic programs differ in requirements, time frame, and participants, SDRP and the other geographic programs all follow the same basic process:

1. The Census Bureau invites eligible participants to take part in the program. For SDRP, the Census Bureau invites state Title I coordinators and mapping coordinators.

2. If they elect to join the program, participants receive a copy of the boundaries or addresses that the Census Bureau has on file. The Census Bureau also provides SDRP participants with free customized mapping software to facilitate their work.

3. Participants review the boundaries or addresses in the Census Bureau-provided digital maps and update them if needed. For SDRP, participants reach out to contacts in their state to collect updates.

4. Participants return their updates to the Census Bureau. In the SDRP, this is known as the Annotation Phase.

5. The Census Bureau updates its geographic database with boundary or address updates from participants.

6. In the SDRP Verification Phase, the Census Bureau creates maps from its geographic database and sends them to participants for final review.

7. The Census Bureau uses the newly updated boundaries and addresses to tabulate statistics.

The Census Bureau requests state officials to review and update the school district information the Census Bureau has on file through the SDRP. State officials will provide the Census Bureau with updates as well as corrections to the federal Local Education Agency (LEA) identification numbers, school district boundaries, school names, grade ranges, and levels for which each school district is financially responsible.

The main purpose of the school district information obtained through this program is to assist in forming the Census Bureau's estimates of the number of families with children, aged 5 through 17, in poverty for each school district for the U.S. Department of Education. These Census Bureau estimates are the basis of the Title I allocation for each school district. The SDRP is of vital importance for each state's allocation under Title I of the Elementary and Secondary Education Act (ESEA) as amended by Every Student Succeeds Act of 2015, Public Law 114-95. The U.S. Department of Education uses these estimates to allocate more than $14 billion in Title I funding annually.

The National Center for Education Statistics (NCES) sponsors the SDRP. The NCES identifies a Title I coordinator for each state and the District of Columbia, and the Census Bureau works with the Title I coordinator on assigning a mapping coordinator in each state to work with the Census Bureau to implement this work. The mapping coordinator collects updates from local school districts, state education officials, county planners, and state data centers, and ensures that submissions are completed within the SDRP's time frame. The respondents for the SDRP are the Title I coordinators and mapping coordinators from the 50 states and the District of Columbia.

The SDRP encompasses Type 1 and Type 2 school districts as defined by the NCES. Type 1 is a local school district that is not a component of a supervisory union. Type 2 is a local school district component of a supervisory union sharing a superintendent and administrative services with other local school districts.

The SDRP consists of two phases—the Annotation Phase and the Verification Phase. In the Annotation Phase, the Census Bureau provides mapping coordinators with materials containing the most current school district boundaries and information the Census Bureau has on file for their state. Mapping coordinators review the data and submit changes to the school district boundaries or information to the Census Bureau. The Census Bureau reviews and processes the information submitted by mapping coordinators, and the Census Bureau updates all verified changes into the Master Address File/Topologically Integrated Geographic Encoding and Referencing (MAF/TIGER) database. In the Verification Phase, mapping coordinators verify that the Census Bureau accurately and completely updated the MAF/TIGER database with updates submitted during the Annotation Phase.

II. Method of Collection

Annotation Phase

In the Annotation Phase, mapping coordinators gather school district updates from school district superintendents and other state officials and use Census Bureau-provided materials to review and update school district boundaries, names, codes, and geographic relationships. The Census Bureau provides mapping coordinators with school district listings, spatial data in Esri shapefile format, blank submission logs, and Geographic Update Partnership Software (GUPS). The school district listings consist of school district inventories, school names, levels, grade ranges, and other data about school districts within their state. If the mapping coordinator has non-spatial updates (e.g., name changes, simple consolidations, simple dissolutions, and others), the mapping coordinator updates the Census Bureau-provided submission log with those changes. If a mapping coordinator needs to perform spatial updates to a school district boundary, the mapping coordinator uses Census Bureau provided GUPS and spatial data to make updates. GUPS, SDRP version, is a Census Bureau-created, user-friendly, free digital mapping tool for mapping coordinators. It contains all the functionality necessary for mapping coordinators to spatially make and validate their school district updates. Once mapping coordinators have reviewed and updated the school district information for their state, the mapping coordinator sends it to the Census Bureau, using Secure Web Incoming Module (SWIM), a web portal for uploading SDRP submissions. The Census Bureau will update the MAF/TIGER database with the updates sent by the mapping coordinator.

Verification Phase

In the Verification Phase, the Census Bureau sends mapping coordinators newly created listings and digital files, and mapping coordinators use the SDRP verification module in GUPS to review these files and verify that the Census Bureau correctly captured their submitted information. The mapping coordinator can tag the area of issue and send the information to the Census Bureau to make corrections if the Census Bureau did not incorporate their boundary changes or other updates correctly.

Schedule

August 2018 | Annotation Phase begins for the 2019 SDRP.
December 2018 | Deadline to submit 2019 SDRP Annotation Phase to the Census Bureau.
April 2019 | SDRP Verification Phase for 2019 SDRP begins and ends.
August 2019 | Annotation Phase begins for the 2020 SDRP.
December 2019 | Deadline to submit 2020 SDRP Annotation Phase updates to the Census Bureau.
| Preliminary poverty estimates, based on the updated school district geographic framework collected in the 2019 SDRP, released.
April 2020 | SDRP Verification Phase for 2020 SDRP begins and ends.
August 2020 | Annotation Phase begins for the 2021 SDRP.
December 2020 | Deadline to submit 2021 SDRP Annotation Phase to the Census Bureau.
| Preliminary poverty estimates, based on the updated school district geographic framework collected in the 2020 SDRP, released.
April 2021 | SDRP Verification Phase for 2021 SDRP begins and ends.
August 2021 | Annotation Phase begins for the 2022 SDRP.
December 2021 | Deadline to submit 2022 SDRP Annotation Phase updates to the Census Bureau.
| Preliminary poverty estimates, based on the updated school district geographic framework collected in the 2021 SDRP, released.

III. Data

OMB Control Number: 0607-0987.

Form Number: Not available at this time.

Type of Review: Regular submission.

Affected Public: Government officials for all 50 states and the District of Columbia.

Estimated Number of Respondents:

Annotation Phase: 51.

Verification Phase: 51.

Estimated Time per Response:

Annotation Phase: 30 hours.

Verification Phase: 10 hours.

Estimated Burden Hours:

Annotation Phase: 1,530 hours.

Verification Phase: 510 hours.

Estimated Total Burden Hours: 2,040 hours.

Estimated Total Annual Cost to Public: $0 (This is not the cost of respondents' time, but the indirect costs respondents may incur for such things as purchases of specialized software or hardware needed to report, or expenditures for accounting or records maintenance services required specifically by the collection.)

Respondent's Obligation: Voluntary.

Census Bureau Legal Authority: Title 13 U.S.C. Section 16, 141, and 193.

NCES Legal Authority: Title I, Part A of the Elementary and Secondary Education Act as amended by the Every Student Succeeds Act of 2015, Public Law (Pub. L.) 114-95.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Summarization of comments submitted in response to this notice will be included in the request for OMB approval of this information collection. Comments will also become a matter of public record.

Sheleen Dumas,
Department Lead PRA Officer, Office of the Chief Information Officer.

[FR Doc. 2018-01847 Filed 1-30-18; 8:45 am]

BILLING CODE 3510-07-P